ENVIRONMENTAL PROTECTION AGENCY

40 CFR Part 300

[FRL-6851-6]

National Oil and Hazardous Substances Pollution Contingency Plan; National Priorities List

AGENCY: Environmental Protection Agency.

ACTION: Direct final deletion of the General Electric (GE) Wiring Devices Superfund Site from the National Priorities List.

SUMMARY: The Environmental Protection Agency (EPA), Region II office, announces the deletion of the GE Wiring Devices Superfund Site (Site) from the National Priorities List (NPL) and requests public comment on this action. The NPL constitutes Appendix B of 40 CFR part 300, which is the National Oil and Hazardous Substances Pollution Contingency Plan (NCP), which EPA promulgated pursuant to section 105 of the Comprehensive Environmental Response, Compensation, and Liability Act (CERCLA), as amended. EPA and the Puerto Rico Environmental Quality Board (EQB) have determined that all appropriate CERCLA actions have been implemented and that no further cleanup by the responsible party is appropriate. Moreover, EPA and the Puerto Rico EQB have determined that the Site poses no significant threat to public health and the environment.

DATES: This “direct final” action will be effective October 16, 2000 unless EPA receives significant adverse or critical comments by September 18, 2000. If written significant adverse or critical comments are received, EPA will publish a timely withdrawal of the rule in the Federal Register, informing the public that the rule will not take effect.

ADDRESSES: Comments should be submitted to: Caroline Kwan, Remedial Project Manager, Emergency and Remedial Response Division, U.S. Environmental Protection Agency, Region II, 290 Broadway, 20th Floor, New York, New York 10007-1866.

Comprehensive information on this Site is available through the public docket contained at: U.S. Environmental Protection Agency, Region II, Superfund Records Center, 290 Broadway, Room 1828, New York, New York 10007-1866, (212) 637-4308, Hours: 9 AM to 5 PM, Monday through Friday.

Information on the Site is also available for viewing at the following information repository locations: The Press Office at the Mayor's Office, Casa Alcaldia de Juana Diaz, Calle Degetau, (787) 837-2185, Hours: 8 AM to Noon; 1 PM to 4:30 PM, Monday through Friday.

U.S. Environmental Protection Agency, Caribbean Environmental Protection Division, Centro Europa Building, 1492 Ponce De Leon Avenue, Suite 207, Santurce, Puerto Rico 00907, (787) 729-6951 Ext. 263, Hours: 7 AM to 4 PM, Monday through Friday.

FOR FURTHER INFORMATION CONTACT: Ms. Kwan may be contacted at the above address, by telephone at (212) 637-4275, by FAX at (212) 637-4284 or via e-mail at kwan.caroline@epa.gov.

SUPPLEMENTARY INFORMATION:

Table of Contents

I. Introduction

II. NPL Deletion Criteria

III. Deletion Procedures

IV. Basis for Intended Site Deletion

V. Action

I. Introduction

EPA Region II announces the deletion of the GE Wiring Devices Superfund Site (Site), located in the municipality of Juana Diaz, Puerto Rico, from the National Priorities List (NPL) and requests public comment on this action. The NPL constitutes Appendix B of 40 CFR part 300, which is the National Oil and Hazardous Substances Pollution Contingency Plan (NCP). EPA identifies sites that appear to present a significant risk to public health or the environment and maintains the NPL as the list of those sites. Sites on the NPL may be the subject of remedial actions financed by the Hazardous Substances Superfund Response Trust Fund (Fund). Pursuant to 40 CFR 300.425(e)(3) of the NCP, any site deleted from the NPL remains eligible for future Fund-financed remedial actions in the unlikely event that conditions at the Site warrant such action.

EPA will accept comments, concerning this action, for thirty days after publication of this action in the Federal Register.

Section II of this action explains the criteria for deleting sites from the NPL. Section III discusses the procedures that EPA is using for this action. Section IV discusses the GE Wiring Devices Superfund Site and explains how the Site meets the deletion criteria.

II. NPL Deletion Criteria

The NCP establishes the criteria that the Agency uses to delete sites from the NPL. In accordance with 40 CFR 300.425(e) of the NCP, sites may be deleted from the NPL when no further response is appropriate. In making this determination, EPA shall consider whether any of the following criteria have been met:

(i) Responsible or other parties have implemented all appropriate response actions required; or,

(ii) All appropriate responses under CERCLA have been implemented, and no further action by responsible parties is appropriate; or,

(iii) The remedial investigation has shown that the release poses no significant threat to public health or the environment and, therefore, taking remedial measures is not appropriate.

Deletion of a site from the NPL does not preclude eligibility for subsequent Fund-financed actions at the Site if future Site conditions warrant such actions. 40 CFR 300.425(e)(3) of the NCP provides that Fund-financed actions may be taken at sites that have been deleted from the NPL. Further, deletion of a site from the NPL does not affect the liability of responsible parties or impede Agency efforts to recover costs associated with response efforts.

III. Deletion Procedures

The following procedures are being used for the intended deletion of this Site:

(1) EPA Region II issued a Record of Decision (ROD) in September 1988, which described the selected remedy at the Site. Thereafter, following excavation and physical separation of wastes, EPA Region II issued a ROD Amendment in July 1999, which allowed for off-site waste disposal in place of the treatment method specified in the 1988 ROD.

(2) A Remedial Action (RA) contractor hired by the Potentially Responsible Party (PRP) conducted waste excavation and physical separation activities for the Phase I RA at the Site. The PRP also hired contractors to complete excavation of remaining waste materials as well as off-site waste transportation and disposal activities for the Phase II RA. EPA and the Commonwealth of Puerto Rico oversaw the Phase I and Phase II RA activities. EPA prepared a Final Closeout Report, which documents that the remedy was implemented in accordance with the 1988 ROD and 1999 ROD Amendment.

(3) The results obtained from confirmatory soil samples and post-RA groundwater samples support that the ROD cleanup requirements have been achieved. The remedy is protective of human health and the environment, and achieves long-term effectiveness and permanence.

(4) EPA Region II issued a Final Closeout Report, dated June 20, 2000, which found that the responsible party implemented all appropriate response actions.

(5) EPA Region II recommends deletion and has made all the relevant documents available in the regional office and local information repository locations.

(6) The Puerto Rico EQB has concurred with the deletion decision in a letter dated July 10, 2000.

(7) A notice has been published in a local newspaper and has been distributed to appropriate Federal, state and local officials and other interested parties, announcing a thirty (30) day public comment period on EPA's Direct Final Action to Delete.

EPA is requesting public comments on the Direct Final Action to Delete. The NCP provides that EPA shall not delete a site from the NPL until the public has been afforded an opportunity to comment on the proposed deletion. Deletion of a site from the NPL does not affect responsible party liability or impede Agency efforts to recover costs associated with response efforts. The NPL is designed primarily for informational purposes and to assist Agency management of Superfund sites.

EPA Region II will accept and evaluate public comments before making a final decision to delete. If necessary, EPA Region II will prepare a Responsiveness Summary to address any significant comments received during the public comment period.

If EPA does not receive significant adverse or critical comments and/or significant new data submitted during the comment period, the Site will be deleted from the NPL effective October 16, 2000.

IV. Basis for Intended Site Deletion

The GE Wiring Devices Superfund Site (Site) is located in the south central part of the island of Puerto Rico on Calle Carrion Maduro Final (Carr. 149, Km. 67) in the municipality of Juana Diaz. The Site is located northeast of Ponce, close to the intersection of Routes 14 and 149. The General Electric Company (GE) operated a wiring devices plant at the Site that manufactured various residential, institutional, and commercial electrical devices. The plant occupies approximately six acres of property, which included a 1.1-acre fill area where mercury-contaminated materials were historically disposed.

The fill area or West Field, was located west of the GE plant and extended onto the adjacent property to the west, which is owned by the Puerto Rico Industrial Development Corporation (PRIDCO). The West Field is bounded to the north and east by GE's manufacturing and storage buildings, and several residences are located approximately 400 feet south. The groundwater underlying the Site is used as a source of potable water with the nearest public supply well located approximately 1,500 feet to the west.

From 1957 until 1969, GE used the West Field to dispose of defective electrical components, including parts from silent mercury switches. GE discontinued the use of mercury in its manufacturing processes at the Juana Diaz plant in 1970.

In 1979, GE initiated remedial investigation activities. Early sample data revealed the presence of waste fill materials containing up to 60,000 parts per million (ppm; equivalent to milligrams per kilogram) of mercury in the West Field. An unspecified amount of waste material was also removed and sent to Bethlehem, Pennsylvania for reclamation.

The Site was included on the National Priorities List of hazardous sites in December 1982.

On January 16, 1984, GE entered into an Administrative Consent Order with EPA to conduct a Remedial Investigation/Feasibility Study (RI/FS) and to remediate the Site.

On September 30, 1988, EPA issued a Record of Decision (ROD). The selected remedy included: (1) Further treatability studies to insure the implementability of hydrometallurgical processes; (2) on-site hydrometallurgical treatment of the waste fill, perched water, and contaminated near-surface soils; (3) treatment of the material to below the health-based levels, backfilling the waste fill area with the treated materials, and covering it with 2 feet of clean soil; (4) additional investigation of the groundwater; (5) limited groundwater monitoring; and (6) confirmatory air monitoring and re-sampling of soil in residential yards.

From 1994 to 1997, GE patented a mercury removal process called the GE Mercury Extraction Process (GEMEP) treatment system with oversight by EPA. GE contracted Metcalf & Eddy, Inc. (M&E) to design, fabricate, and operate the system. In June 1997, M&E completed construction of the physical treatment system; waste excavation and physical separation of wastes were performed concurrently. The quantity of material requiring excavation and physical separation was more than double the amount originally expected (11,700 tons versus 5,005 tons), and (2) the actual clay content of the material that underwent treatment was much higher than expected (63 percent versus 18 percent). This resulted in the physical separation step requiring 34 weeks, instead of the design estimate of 4 weeks. Consequently, after completing most of the excavation, GE suspended Site activities as a result of the changes in material encountered.

In March 1999, GE completed a Supplemental Focused Feasibility Study (FFS), which recommended off-site landfilling of excavated waste to a RCRA, Subtitle C (hazardous waste) facility on the mainland United States. On July 1, 1999, EPA signed a ROD Amendment, which modified the remedy.

From June to early-July, 1999, stockpiled waste materials were loaded into waste shipment containers and disposed off-site.

From November 1999 to January 2000, excavation of remaining waste materials from the cold storage building and the transformer areas was completed and was also disposed off-site.

The final Remedial Action Report was approved by EPA on May 25, 2000. The Final Closeout Report, dated June 20, 2000 was signed by EPA.

The Site cleanup was based on the most conservative exposure scenario (future residential development and site use). Results obtained from confirmatory soil samples and post-RA groundwater samples indicate that the ROD cleanup requirements have been achieved so that the Site has no restrictions on Site use or the exposure of persons at the Site. Therefore, a subsequent five-year review of the remedy for this Site by EPA is not required.

V. Action

GE has completed all appropriate response actions at this Site which are protective of human health and the environment, and achieve a permanent cleanup without the need for further remedial action.

The Commonwealth of Puerto Rico concurs with EPA that the criteria for deletion of the Site have been met. Therefore, EPA is deleting the Site from the NPL.

This action will be effective October 16, 2000. However, if EPA receives dissenting comments by September 18, 2000, EPA will publish a document that withdraws this action.

List of Subjects in 40 CFR Part 300

Environmental protection, Chemicals, Hazardous substances, Hazardous wastes, Intergovernmental relations, Penalties, Superfund, Water pollution control, Water supply.

Dated: July 28, 2000.
William J. Muszynski,
Acting Regional Administrator, Region II.

Part 300, title 40 of chapter I of the Code of the Federal Regulations is amended as follows:

PART 300—[AMENDED]

1. The authority citation for part 300 continues to read as follows:

Authority: 33 U.S.C. 1321(c)(2); 42 U.S.C. 9601-9657; E.O. 12777, 56 FR 54757, 3 CFR, 1991 Comp.; p. 351; E.O.12580, 52 FR 2923, 3 CFR, 1987 Comp.; p. 193.

Appendix B—[AMENDED]

2. Table 1 of Appendix B to Part 300 is amended by removing the site for the “GE Wiring Devices, Juana Diaz, Puerto Rico”.

[FR Doc. 00-20725 Filed 8-16-00; 8:45 am]

BILLING CODE 6560-50-U